DEPARTMENT OF AGRICULTURE

Submission for OMB Review; Comment Request

April 28, 2015.

The Department of Agriculture has submitted the following information collection requirement(s) to Office of Management and Budget (OMB) for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget, New Executive Office Building, 725—17th Street NW., Washington, DC 20502. Commenters are encouraged to submit their comments to OMB via email to: OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utility Service

Title: Substantially Underserved Trust Areas (SUTA), 7 CFR 1700, Subpart D.

OMB Control Number: 0572-0147.

Summary of Collection: The 2008 Farm Bill (P.L. 110-246) authorized the Substantially Underserved Trust Area (SUTA) initiative. The SUTA initiative identifies the need and improves the availability of Rural Utility Service (RUS) programs to reach trust areas. The initiative gives the Secretary of Agriculture certain discretionary authorities relating to financial assistance terms and conditions that can enhance the financing possibilities in areas that are underserved by certain RUS electric, water and waste, and telecom and broadband programs.

Need and Use of the Information: RUS provides loan, loan guarantee and grant programs for rural electric, water and waste, and telecommunications and broadband infrastructure. Eligible applicants notify RUS in writing, at the time of application, that it seeks consideration under the requirements of 7 CFR 1700, subpart D. The data covered by this collection are those materials necessary to allow the agency to determine applicant and community eligibility, and an explanation and documentation of the high need for the benefits of the SUTA provisions. Without this information RUS would not be able to make a prudent loan decision.

Description of Respondents: State, Local or Tribal Government.

Number of Respondents: 2.

Frequency of Responses: Reporting: On occasion.

Total Burden Hours: 12.

Ruth Brown,
Departmental Information Collection Clearance Officer.

[FR Doc. 2015-10318 Filed 5-1-15; 8:45 am]

BILLING CODE 3410-15-P